Title 3—

The President

Proclamation 7743 of December 8, 2003

National Drunk and Drugged Driving Prevention Month, 2003

By the President of the United States of America

A Proclamation

Last year, more than 17,000 people were killed and 258,000 more were injured in alcohol-related crashes. Such accidents cause unnecessary suffering, loss of life, and expense. During National Drunk and Drugged Driving Prevention Month, we continue our efforts to stop impaired driving and improve the safety of our roads during the holiday season and throughout the year.

We are enhancing both the education of our citizens about the dangers of driving while under the influence and our methods for keeping impaired drivers off the road. My Administration is helping in this fight by supporting the enforcement of traffic programs that teach Americans about the risks of impaired driving. Earlier this year, my Administration proposed to the Congress the Safe, Accountable, Flexible, and Efficient Transportation Equity Act of 2003 (SAFETEA), which would elevate safe transportation to a national priority and increase State resources for existing enforcement and education efforts. While Federal help and funding are important, State and local involvement is also critical. As part of the Department of Transportation's National Highway Traffic Safety Administration's “You Drink & Drive. You Lose.” national campaign, from December 19, 2003, through January 4, 2004, more than 10,000 law enforcement agencies will join forces with community, health, government, and business organizations to demonstrate that impaired driving is unacceptable and unlawful.

NOW, THEREFORE, I, GEORGE W. BUSH, President of the United States of America, by virtue of the authority vested in me by the Constitution and laws of the United States, do hereby proclaim December 2003 as National Drunk and Drugged Driving Prevention Month. I encourage all Americans to join the “You Drink & Drive. You Lose.” national campaign to protect our citizens from impaired drivers.

IN WITNESS WHEREOF, I have hereunto set my hand this eighth day of December, in the year of our Lord two thousand three, and of the Independence of the United States of America the two hundred and twenty-eighth.

B

[FR Doc. 03-30846

Filed 12-10-03; 8:45 am]

Billing code 3195-01-P